DEPARTMENT OF TRANSPORTATION

Pipeline and Hazardous Materials Safety Administration

[Docket No. PHMSA-2004-19856]

Pipeline Safety: Updated Notification of the Susceptibility to Premature Brittle-Like Cracking of Older Plastic Pipe

AGENCY: Pipeline and Hazardous Materials Safety Administration (PHMSA); DOT.

ACTION: Notice; Issuance of Advisory Bulletin.

SUMMARY: PHMSA is issuing this updated advisory bulletin to owners and operators of natural gas pipeline distribution systems concerning the susceptibility of older plastic pipe to premature brittle-like cracking. PHMSA previously issued three advisory bulletins on this subject: Two on March 11, 1999 and one on November 26, 2002. This advisory bulletin expands on the information provided in the three prior bulletins by listing two additional pipe materials with poor performance histories relative to brittle-like cracking and by updating pipeline owners and operators on the ongoing voluntary efforts to collect and analyze data on plastic pipe performance. Owners and operators of natural gas pipeline distribution systems are encouraged to review the three previous advisory bulletins in their entirety.

FOR FURTHER INFORMATION CONTACT: Richard Sanders at (405) 954-7214, or by e-mail at richard.sanders@dot.gov.

SUPPLEMENTARY INFORMATION:

I. National Transportation Safety Board (NTSB) Investigation

On April 23, 1998, the National Transportation Safety Board (NTSB) issued its Special Investigation Report, Brittle-Like Cracking in Plastic Pipe for Gas Service, NTSB/SIR-98/01. The report described the results of the NTSB's special investigation of polyethylene gas service pipe, which addressed three major safety issues: (1) Vulnerability of plastic piping to premature failures due to brittle-like cracking; (2) adequacy of available guidance relating to the installation and protection of plastic piping connections to steel mains; and, (3) effectiveness of performance monitoring of plastic pipeline systems to detect unacceptable performance in piping systems.

(1) Vulnerability of plastic piping to premature failures due to brittle-like cracking: The NTSB found that failures in polyethylene pipe in actual service are frequently brittle-like, slit failures, not ductile failures. It concluded the number and similarity of plastic pipe accident and non-accident failures indicate past standards used to rate the long-term strength of plastic pipe may have overrated the strength and resistance to brittle-like cracking for much of the plastic pipe manufactured and used for gas service from the 1960s through the early 1980s. The NTSB also concluded any potential public safety hazards from these failures are likely to be limited to locations where stress intensification exists. The NTSB went on to state that more durable modern plastic piping materials and better strength testing have made the strength ratings of modern plastic piping more reliable.

(2) Adequacy of available guidance relating to the installation and protection of plastic piping connections to steel mains:The NTSB concluded that gas pipeline operators had insufficient notification of the brittle-like failure potential for plastic pipe manufactured and used for gas service from the 1960s to the early 1980s. The NTSB also concluded this may not have allowed companies to implement adequate surveillance and replacement programs for older plastic piping. The NTSB explained the Gas Research Institute (GRI) developed a significant amount of data on older plastic pipe but the data was published in codified terms making it insufficient for use by pipeline system operators. The NTSB recommended that manufacturers of resin and pipe, industry trade groups and the Federal government do more to alert pipeline operators to the role played by stress intensification from external forces in the premature failure of plastic pipe due to brittle-like cracking.

(3) Effectiveness of performance monitoring of plastic pipeline systems as a way of detecting unacceptable performance in piping systems:The NTSB's analysis noted that Federal regulations require pipeline operators to have an ongoing program to monitor the performance of their pipeline systems. However, the NTSB investigation revealed some gas pipeline operators' performance monitoring programs did not effectively collect and analyze data to determine the extent of possible hazards associated with plastic pipeline systems. The NTSB pointed out, “such a program must be adequate to detect trends as well as to identify localized problem areas, and it must be able to relate poor performance to specific factors such as plastic piping brands, dates of manufacture (or installation dates), and failure conditions.”

Copies of this report may be obtained by searching the NTSB Web site at www.ntsb.gov.

II. Advisory Bulletins Previously Issued by PHMSA

The NTSB made several recommendations to PHMSA and to trade organizations in its 1998 special investigation report. In response, PHMSA issued three advisory bulletins. The first advisory bulletin, ADB-99-01, Potential Failure Due to Brittle-Like Cracking of Certain Polyethylene Plastic Pipe Manufactured by Century Utility Products Inc, was published in the Federal Register (FR) on March 11, 1999 (64 FR 12211) to advise natural gas pipeline distribution system operators that brittle-like cracking may occur on certain polyethylene pipe manufactured by Century Utility Products, Inc.

The second advisory bulletin, ADB-99-02, Potential Failures Due to Brittle-Like Cracking of Older Plastic Pipe in Natural Gas Distribution Systems, was also published in the Federal Register on March 11, 1999 (64 FR 12212) to advise natural gas pipeline distribution system operators of the potential for brittle-like cracking of plastic pipes installed between the 1960s and early 1980s.

The third advisory bulletin, ADB-02-07, Notification of the Susceptibility To Premature Brittle-Like Cracking of Older Plastic Pipe, was published in the Federal Register on November 26, 2002 (67 FR 70806) to reiterate to natural gas pipeline distribution system operators the susceptibility of older plastic pipe to premature brittle-like cracking. The older polyethylene pipe materials specifically identified in ADB-02-07 included, but were not limited to:

• Century Utility Products, Inc. products;

• Low-ductile inner wall “Aldyl A” piping manufactured by DuPont Company before 1973; and

• Polyethylene gas pipe designated PE 3306.

This third advisory bulletin also listed several environmental, installation and service conditions in which plastic piping is used that could lead to premature brittle-like cracking failure. PHMSA also described six recommended practices for polyethylene gas pipeline system operators to aid them with identifying and managing brittle-like cracking problems.

III. Plastic Pipe Studies

Beginning January 25, 2001, the American Gas Association (AGA) began to collect data on in-service plastic piping material failures with the objective of identifying trends in the performance of these materials. The resulting leak survey data, collected from 2001 to present, on the county's natural gas distribution systems includes both actual failure information and negative reports (reports of no leads) submitted voluntarily by participating pipeline operating companies.

The AGA, PHMSA, and other industry and state organizations continue to collect and analyze the data. Unfortunately, the data cannot be correlated with the quantities of each plastic pipe material that may be in service across the United States. Therefore, the data does not assess the failure rates of individual plastic pipe materials on a linear basis (i.e. per foot, per mile, etc.). However, the failure data reinforces what is historically known about certain older plastic piping and components. The data also indicates the susceptibility of additional specific materials to brittle-like cracking.

IV. Advisory Bulletin ADB-07-01

To: Owners and Operators of Natural Gas Pipeline Distribution Systems.

Subject: Updated Notification of the Susceptibility of Older Plastic Pipes to Premature Brittle-Like Cracking.

Advisory: All owners and operators of natural gas distribution systems who have installed and operate plastic piping are reminded of the phenomenon of brittle-like cracking. Brittle-like cracking refers to crack initiation in the pipe wall not immediately resulting in a full break followed by stable crack growth at stress levels much lower than the stress required for yielding. This results in very tight, slit-like, openings and gas leaks. Although significant cracking may occur at points of stress concentration and near improperly designed or installed fittings, small brittle-like cracks may be difficult to detect until a significant amount of gas leaks out of the pipe, and potentially migrates into an enclosed space such as a basement. Premature brittle-like cracking requires relatively high localized stress intensification that may result from geometrical discontinuities, excessive bending, improper installation of fittings, dents and/or gouges. Because this failure mode exhibits no evidence of gross yielding at the failure location, the term brittle-like cracking is used. This phenomenon is different from brittle fracture, in which the pipe failure causes fragmentation of the pipe.

All owners and operators of natural gas distribution systems are future advised to review the three earlier advisory bulletins on this issue. In addition to being available in the Federal Register, these advisory bulletins are available in the docket, and on PHMSA's Web site at http://phmsa.dot.gov/ under Pipeline Safety Regulations.

In the first advisory bulletin, ADB-99-01, published on March 11, 1999 (64 FR 12211), PHMSA advises natural gas distribution system operators of the potential for poor resistance to brittle-like cracking of certain polyethylene pipe manufactured by Century Utility Products, Inc. In the second advisory bulletin, ADB-99-02, published on March 11, 1999 (64 FR 12212), PHMSA advises natural gas distribution system operators of the potential for brittle-like cracking of plastic pipes installed between the 1960s and early 1980s.

In the third advisory bulletin, ADB-02-07, published on November 26, 2002 (67 FR 70806), PHMSA reiterates to pipeline operators the susceptibility of some older plastic pipe to premature brittle-like cracking which could substantially reduce the service life of natural gas distribution systems and to explain the mission of the Plastic Pipe Database Committee (PPDC) “to develop and maintain a voluntary data collection process that supports the analysis of the frequency and causes of in-service plastic piping material failures.” The advisory bulletin also lists several environmental, installation and service conditions under which plastic piping is used which is used which could lead to premature brittle-like cracking failure. PHMSA also describes six recommended practices for polyethylene gas pipeline system operators to aid them with identifying and managing brittle-like cracking problems.

Lastly, the susceptibility of some polyethylene pipes to brittle-like cracking is dependent on the resin, pipe processing, and service conditions. As noted in ADB-02-07, these older polyethylene pipe materials include, but are not limited to:

• Century Utility Products, Inc. products;

• Low-ductile inner wall “Aldyl A” piping manufactured by DuPont Company before 1973; and

• Polyethylene gas pipe designated PE 3306.

The data now supports adding the following pipe materials to this list:

• Delrin insert tap tees; and,

• Plexco service tee Celcon (polyacetal) caps.

Authority: 49 U.S.C. chapter 601 and 49 CFR 1.53.

Issued in Washington, DC, on August 28, 2007.
Jeffrey D. Wiese,
Associate Administrator for Pipeline Safety.

[FR Doc. 07-4309 Filed 9-5-07; 8:45 am]

BILLING CODE 4910-60-M